DEPARTMENT OF ENERGY

Federal Energy Regulatory Commission

Sunshine Act Meeting; Notice

July 13, 2006.

The following notice of meeting is published pursuant to section 3(a) of the government in the Sunshine Act (Pub. L. 94-409), 5 U.S.C 552b:

Agency Holding Meeting: Federal Energy Regulatory Commission.

Date and Time: July 20, 2006. 10 a.m.

Place: Room 2C, 888 First Street, NE., Washington, DC 20426.

Status: Open.

Matters to be Considered: Agenda: *Note—Items listed on the agenda may be deleted without further notice.

Contact Person For More Information: Magalie R. Salas, Secretary, Telephone: (202) 502-8400.

For a recorded listing item stricken from or added to the meeting, call (202) 502-8627.

This is a list of matters to be considered by the Commission. It does not include a listing of all papers relevant to the items on the agenda; however, all public documents may be examined in the Public Reference Room.

907th—Meeting

Regular Meeting: July 20, 2006; 10 a.m.

Item No. | Docket No. | Company
Administrative Agenda
A-1 | AD02-1-000 | Agency Administrative Matters.
A-2 | AD02-7-000 | Customer Matters, Reliability, Security and Market Operations.
A-3 | AD06-3-000 | Energy Market Update.
A-4 | AD05-13-000 | Joint Boards on Security Constrained Economic Dispatch.
A-5 | AD06-2-000 | Demand Response Report.
Electric
E-1 | RM05-34-002 | Transactions Subject to FPA Section 203.
E-2 | RM06-8-000 | Long-Term Firm Transmission Rights in Organized Electricity Markets.
E-3 | RM06-4-000 | Promoting Transmission Investment through Pricing Reform.
E-4 | EL06-54-000 | Allegheny Energy, Inc., Monongahela Power Company, The Potomac Edison Company, and West Penn Power Company.
E-5 | RR06-1-000 | North American Electric Reliability Corporation.
E-6 | RR06-2-000 | Governors of Arizona, California, Colorado, Montana, Nevada, New Mexico, Oregon, Utah, Washington and Wyoming.
E-7 | ER05-764-000 ER05-764-002 | Montana Alberta Tie, Ltd.
E-8 | ER06-451-002 ER06-1047-000 | Southwest Power Pool, Inc.
E-9 | Omitted
E-10 | ER98-1150-004 ER98-1150-005 ER98-1150-006 EL05-87-000 | Tucson Electric Power Company.
E-11 | Omitted
E-12 | TX05-1-007 | East Kentucky Power Cooperative, Inc.
E-13 | ER04-230-023 | New York Independent System Operator, Inc.
E-14 | Omitted
E-15 | EL06-50-000 | American Electric Power Service Corporation.
E-16 | Omitted
E-17 | EF04-3031-001 | United States Department of Energy—Southeastern Power Administration (Jim Woodruff Project).
E-18 | RM02-12-002 | Standardization of Small Generator Interconnection Agreements and Procedures.
E-19 | Omitted
E-20 | ER06-448-001 | Southwest Power Pool, Inc.
E-21 | EL04-87-000 ER04-563-002 ER04-563-003 ER05-413-003 ER05-413-004 ER03-379-003 ER03-355-004 ER05-518-002 | Southern Company Services, Inc.
E-22 | Omitted
Miscellaneous
M-1 | RM05-32-002 | Repeal of the Public Utility Holding Company Act of 1935 and Enactment of the Public Utility Holding Company Act of 2005.
Gas
G-1 | OR06-8-000 | Colonial Pipeline Company.
G-2 | TS06-8-000 | High Island Offshore System, L.L.C.
| TS06-9-000 | Petal Gas Storage, L.L.C.
| TS05-13-000 | NGO Transmission, Inc.
| TS04-286-001 | Exelon Corporation.
| TS04-287-001
| TS06-10-000 | Ozark Gas Transmission, L.L.C.
| TS05-9-000 | Texas Gas Service Company.
| TS04-3-001 | NorthWestern Energy.
| TS04-260-001 | Williston Basin Interstate Pipeline.
| TS05-18-000 | Attala Transmission, L.L.C.
| TS06-1-000 | The Detroit Edison Company.
G-3 | TS04-248-001 | National Fuel Gas Distribution Corporation.
| TS04-270-000 | Equitrans, Inc.
| TS06-7-000 | PacifiCorp and TransAlta Centralia Generation, LLC.
| OA06-4-000
| TS04-249-002 | Kinder Morgan Pipelines.
| TS04-252-001 | Ohio Valley Electric Corporation and Indiana-Kentucky Electric Corporation.
| TS04-62-000 | NewCorp Resources Electric Cooperative, Inc.
| TS04-62-001
G-4 | Omitted
Hydro
H-1 | P-6188-016 | Sierra Hydro, Inc.
H-2 | P-8800-021 | Western Hydro Electric, Inc.
H-3 | P-459-153 | Union Electric Company d/b/a Ameren UE.
Certificates
C-1 | CP06-5-000 CP06-6-000 CP06-7-000 | Empire State Pipeline and Empire Pipeline, Inc.
C-2 | CP06-71-000 CP06-72-000 CP06-73-000 | Carolina Gas Transmission Corporation, SCG Pipe-line, Inc. and South Carolina Pipeline Corporation.
C-3 | CP06-66-000 CP06-67-000 CP06-68-000 | Port Barre Investments, L.L.C. d/b/a Bobcat Gas Storage.
C-4 | CP06-18-000 | Tennessee Gas Pipeline Company.

A free Webcast of this event is available through http://www.ferc.gov. Anyone with Internet access who desires to view this event can do so by navigating to http://www.ferc.gov's Calendar of Events and locating this event in the Calendar. The event will contain a link to its Webcast. The Capitol Connection provides technical support for the free Webcasts. It also offers access to this event via television in the DC area and via phone bridge for a fee. If you have any questions, visit http://www.CapitolConnection.org or contact Danelle Perkowski or David Reininger at 703-993-3100.

Immediately following the conclusion of the Commission Meeting, a press briefing will be held in the Commission Meeting Room. Members of the public may view this briefing in the designated overflow room. This statement is intended to notify the public that the press briefings that follow Commission meetings may now be viewed remotely at Commission headquarters, but will not be telecast through the Capitol Connection service.

Magalie R. Salas,
Secretary.

[FR Doc. 06-6420 Filed 7-19-06; 11:47 am]

BILLING CODE 6717-01-P